DEPARTMENT OF TRANSPORTATION

Federal Railroad Administration

[Docket Number FRA-2011-0074]

Petition for Extension of Waiver of Compliance

Under part 211 of title 49 Code of Federal Regulations (CFR), this document provides the public notice that by letters dated November 18, 2022; February 2, 2023; and March 17, 2023, BNSF Railway Company (BNSF) petitioned the Federal Railroad Administration (FRA) for an extension of a waiver of compliance from certain provisions of the Federal railroad safety regulations contained at 49 CFR part 232 (Brake System Safety Standards for Freight and Other Non-Passenger Trains and Equipment; End-of-Train Devices). The relevant Docket Number is FRA-2011-0074.

Specifically, BNSF requests to continue using its software technology, Air Brake System Virtual Training Environment (ABSVTE), to implement a virtual three-dimensional simulation as an alternative to satisfy the “hands-on” portion of periodic refresher training required by § 232.203(b)(8).¹ Refresher training is required at intervals not to exceed 3 years and must consist of classroom and hands-on training, as well as testing.

¹ BNSF's November 18, 2022, petition requested both an extension of the current relief and a modification to apply the relief in a self-directed, wholly virtual environment. However, BNSF's February 2, 2023, petition withdrew the request for modification of the relief but reaffirmed its request for an extension of the existing relief.

In support of its petition, BNSF explains that the ABSVTE “provides a more comprehensive environment for knowledge transfer and assessment than traditional hands-on brake inspection training.” BNSF asserts that the virtual training: (1) can “provide training on every railcar type;” (2) can “simulate the presence of a broad spectrum of mechanical defects;” (3) “ensure[s] accuracy of employee observations” and “provide feedback to the employee;” and (4) allows training to be conducted “without exposing employees to walking hazards or other potential injury exposures.” BNSF notes that the “rate of [rail equipment incidents] caused by car mechanical defects per one million car-miles has continued on a downward trajectory since BNSF began providing training under the waiver.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by June 5, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-06991 Filed 4-3-23; 8:45 am]

BILLING CODE 4910-06-P